DEPARTMENT OF TRANSPORTATION

National Highway Traffic Safety Administration

[Docket No. NHTSA-2014-0125; Notice 1]

General Motors, LLC, Receipt of Petition for Decision of Inconsequential Noncompliance

AGENCY: National Highway Traffic Safety Administration (NHTSA), Department of Transportation (DOT).

ACTION: Receipt of petition.

SUMMARY: General Motors, LLC, (GM) has determined that certain model year (MY) 2015 GMC multipurpose passenger vehicles (MPV) do not fully comply with paragraph S7.8.5 of Federal Motor Vehicle Safety Standard (FMVSS) No. 108, Lamps, Reflective Devices and Associated Equipment. GM has filed an appropriate report dated November 5, 2014, pursuant to 49 CFR part 573, Defect and Noncompliance Responsibility and Reports.

DATES: The closing date for comments on the petition is July 13, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. GM's Petition: Pursuant to 49 U.S.C. 30118(d) and 30120(h) (see implementing rule at 49 CFR part 556), GM submitted a petition for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

II. Vehicles Involved: Affected are approximately 51,616 MY 2015 GMC Yukon, Yukon Denali, Yukon XL, and Yukon XL Denali MPVs manufactured between September 19, 2013 and October 10, 2014. See GM's petition for additional details.

III. Noncompliance: GM explains that the noncompliance is that under certain conditions the parking lamps on the subject vehicles fail to meet the device activation requirements of paragraph S7.8.5 of FMVSS No. 108.

IV. Rule Text: Paragraph S7.8.5 of FMVSS No. 108, as detailed in Table I-a, requires in pertinent part that the activation of parking lamps must be “Steady burning. Must be activated when the headlamps are activated in a steady burning state.”

V. Summary of GM's Analyses: GM stated its belief that the subject noncompliance is inconsequential to motor vehicle safety for the following reasons:

(A) GM explains that the condition is difficult to create even in laboratory settings, let alone real-world driving conditions. GM also stated that they were only able to duplicate the condition under the following circumstances:

• The vehicle is being operated during the daytime with the master lighting switch in “AUTO” mode.

• The transmission is not in “Park.”

• Three or more high-inrush current spikes that exceed the body control module (BCM) inrush current threshold occur on the parking lamp/DRL circuit within a period of 0.625 seconds. While there may be other methods for triggering these spikes (e.g., a service event), GM has only been able to isolate one cause: Manually moving the master lighting control from “AUTO” to parking lamp (or headlamp), back to “AUTO” and back to parking lamp (or headlamp) within 0.625 seconds.

(B) GM believes that drivers are unlikely to cause these spikes during real-world driving. The subject vehicles are equipped with automatic-headlamp operation, so there is very little need for drivers to ever manually operate their vehicle's master lighting control. But even if a driver were inclined to do so, rapidly cycling a vehicle's master lighting control from “AUTO” to parking lamp (or headlamp) back to “AUTO” and back to parking lamp (or headlamp) in less than a second is a highly unusual maneuver that few (if any) drivers would ever attempt during normal vehicle operation.

(C) GM additionally explained that the condition is short-lived and that if the condition does occur any of the following routine operations will automatically correct the condition:

• Cycling the vehicle's ignition on and off with the master lighting control in auto mode.

• Turning the ignition off with the master lighting control in any mode other than auto, and then turning the ignition back on after a minimum of ten minutes.

• Cycling the master lighting control to off and then back to any on position.

• If the vehicle is in DRL mode, activating both turn signals, or shifting the transmission in and out of “PARK.”

(D) GM mentions that while the condition affects the parking lamps and DRL's it does not affect the operation of the vehicle's other lamps.

(E) GM also cited a previous petition that NHTSA granted dealing with a noncompliance that GM believes is similar to the noncompliance that is the subject of its petition.

GM is not aware of any field incidents or warranty claims relating to the subject noncompliance.

GM has additionally informed NHTSA that it corrected the noncompliance in subsequent production of the subject vehicles.

In summation, GM believes that the described noncompliance of the subject vehicles is inconsequential to motor vehicle safety, and that its petition, to exempt GM from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that GM no longer controlled at the time it determined that the noncompliance existed. However, any decision on this petition does not relieve vehicle distributors and dealers of the prohibitions on the sale, offer for sale, or introduction or delivery for introduction into interstate commerce of the noncompliant vehicles under their control after GM notified them that the subject noncompliance existed.

Authority: (49 U.S.C. 30118, 30120: Delegations of authority at 49 CFR 1.95 and 501.8).

Jeffrey Giuseppe,
Director, Office of Vehicle Safety Compliance.

[FR Doc. 2015-14255 Filed 6-10-15; 8:45 am]

BILLING CODE 4910-59-P